Proclamation 9167 of September 12, 2014

National Hispanic-Serving Institutions Week, 2014

By the President of the United States of America

A Proclamation

In America, every child should have access to a world-class education. Our Nation's classrooms cultivate and challenge young minds and build a skilled and competitive workforce, securing a brighter future for our children and our country. Across America, Hispanic-Serving Institutions (HSIs) provide essential education opportunities and play a vital role in fulfilling our responsibility to the rising group of Hispanic innovators, entrepreneurs, artists, and scholars. This week, we honor these halls of learning and recommit ourselves to inspiring and preparing the next generation of leaders.

Our Nation can strengthen our economy and have the highest proportion of college graduates in the world by 2020, but achieving this goal will require us to unlock the full talents and potential of every student. Hispanic Americans represent the largest and one of the fastest growing minority groups in the United States, yet they are continually underrepresented in our colleges and universities. HSIs—where more than half of America's Hispanic undergraduates attend—are critical to increasing the college enrollment, retention, and graduation rates of this expanding population. That is why the Federal Government is investing more than $1 billion over 10 years in these schools to renew, reform, and expand higher education programs for Hispanics.

Today, the Hispanic dropout rate has fallen by more than half, and more Hispanics are enrolled in college than ever before—but we have more work to do to ensure that hardworking students are never priced out of a higher education. My Administration has increased Pell Grants, expanded pathways to earn degrees at our community colleges, and offered new tuition tax credits and better student loan repayment options to millions of people, and we will keep fighting to improve college affordability throughout our country. By lowering the cost of college for students and their parents and supporting HSIs, we can extend the promise of a college degree to an increasing number of Hispanics.

In a changing economy, a college education is one of the surest ways into the middle class, and this week we celebrate institutions that help improve the lives of their students and revitalize the communities where they serve. Let us never forget that the future belongs to the nation that best educates its people. When we strengthen our HSIs, we help ensure that all our children, no matter who they are or where they come from, have the chance to achieve their dreams.

NOW, THEREFORE, I, BARACK OBAMA, President of the United States of America, by virtue of the authority vested in me by the Constitution and the laws of the United States, do hereby proclaim September 14 through September 20, 2014, as National Hispanic-Serving Institutions Week. I call on public officials, educators, and all the people of the United States to observe this week with appropriate programs, ceremonies, and activities that acknowledge the many ways these institutions and their graduates contribute to our country.

IN WITNESS WHEREOF, I have hereunto set my hand this twelfth day of September, in the year of our Lord two thousand fourteen, and of the Independence of the United States of America the two hundred and thirty-ninth.

[FR Doc. 2014-22343

Filed 9-16-14; 11:15 am]

Billing code 3295-F4